DEPARTMENT OF TRANSPORTATION

Federal Aviation Administration

14 CFR Part 39

[Docket No. FAA-2025-5025; Project Identifier AD-2025-01595-T; Amendment 39-23197; AD 2025-24-02]

RIN 2120-AA64

Airworthiness Directives; The Boeing Company Airplanes

AGENCY: Federal Aviation Administration (FAA), DOT.

ACTION: Final rule; request for comments.

SUMMARY: The FAA is adopting a new airworthiness directive (AD) for certain The Boeing Company Model 737-700, -800, -900, and -900ER series airplanes. This AD was prompted by a report of a runway excursion caused by loss of braking. An inspection found that the right main landing gear (MLG) hydraulic hoses for the brakes were incorrectly installed at the flow limiters, and the left MLG wheel speed transducer wires were also interchanged. This AD requires a general visual inspection (GVI) of the left and right MLG brake hydraulic hoses for any crossed installation, antiskid valve and transducer operational tests, and applicable on-condition actions. The FAA is issuing this AD to address the unsafe condition on these products.

DATES: This AD is effective December 10, 2025.

The Director of the Federal Register approved the incorporation by reference of a certain publication listed in this AD as of December 10, 2025.

The FAA must receive comments on this AD by January 9, 2026.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-5025; or in person at Docket Operations between 9 a.m. and 5 p.m., Monday through Friday, except Federal holidays. The AD docket contains this final rule, any comments received, and other information. The street address for Docket Operations is listed above.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-5025.

FOR FURTHER INFORMATION CONTACT: Katherine Venegas, Aviation Safety Engineer, FAA, 3960 Paramount Boulevard, Lakewood, CA 90712; phone: 562-627-5353; email: katherine.venegas@faa.gov.

SUPPLEMENTARY INFORMATION:

Comments Invited

The FAA invites you to send any written data, views, or arguments about this final rule. Send your comments using a method listed under the ADDRESSES section. Include Docket No. FAA-2025-5025 and Project Identifier AD-2025-01595-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Katherine Venegas, Aviation Safety Engineer, FAA, 3960 Paramount Boulevard, Lakewood, CA 90712; phone: 562-627-5353; email: katherine.venegas@faa.gov. Any commentary that the FAA receives that is not specifically designated as CBI will be placed in the public docket for this rulemaking.

Background

The FAA has received a report of a runway excursion caused by loss of braking. An inspection found that the right MLG hydraulic hoses for the brakes were incorrectly installed (crossed) at the flow limiters, and the left MLG wheel speed transducer wires were interchanged. This condition could result in incorrect antiskid system operation, which could result in loss of braking and potential for a runway excursion with serious or fatal injuries. The FAA is issuing this AD to address the unsafe condition on these products.

FAA's Determination

The FAA is issuing this AD because the agency has determined the unsafe condition described previously is likely to exist or develop in other products of the same type design.

Material Incorporated by Reference Under 1 CFR Part 51

The FAA reviewed Boeing Alert Requirements Bulletin 737-32A1599 RB, dated October 14, 2025. This material specifies procedures for a GVI of the left and right MLG brake hydraulic hoses for any incorrect (crossed) installation, antiskid valve and transducer operational tests, and applicable on-condition actions.

On-condition actions include installing the brake hydraulic hoses to the correct flow limiter or union, and doing applicable corrective actions until the operational tests are passed. This material is reasonably available because the interested parties have access to it through their normal course of business or by the means identified in the ADDRESSES section.

AD Requirements

This AD requires accomplishing the actions identified in Boeing Alert Requirements Bulletin 737-32A1599 RB, dated October 14, 2025, already described, except as discussed under “Differences Between this AD and the Referenced Material.”

Differences Between This AD and the Referenced Material

Although Boeing Alert Requirements Bulletin 737-32A1599 RB, dated October 14, 2025, does not specify reporting inspection and test results, reporting is included in Boeing Alert Service Bulletin 737-32A1599, dated October 14, 2025. The FAA has determined that reporting is necessary. The number of findings in such reports, and the number of flight cycles since accomplishing any service bulletin identified in Appendix A of Boeing Alert Requirements Bulletin 737-32A1599 RB, dated October 14, 2025, will help inform the FAA as to whether additional rulemaking may be necessary.

Justification for Immediate Adoption and Determination of the Effective Date

Section 553(b) of the Administrative Procedure Act (APA) (5 U.S.C. 551 et seq.) authorizes agencies to forego notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule, because incorrectly installed (crossed) brake hydraulic hoses for the MLG and interchanged left MLG wheel speed transducer wires could cause incorrect antiskid system operation and result in loss of braking and a runway excursion with serious or fatal injuries. Further, the effects of crossed brake hoses may not be noticed until there is a skidding condition. Additionally, the compliance time in this AD is shorter than the time necessary for the public to comment and for publication of the final rule. Accordingly, notice and opportunity for prior public comment are impracticable.

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

While 6,816 airplanes are included in the Effectivity of Boeing Alert Requirements Bulletin 737-32A1599, dated October 14, 2025, and thus the applicability of this AD, the FAA expects that only approximately 100 airplanes of U.S. registry are currently in a configuration that necessitates immediate action and therefore will incur the following estimated costs.

Estimated Costs
Action | Labor cost | Parts cost | Cost per product | Cost on U.S. operators
Inspection and tests | 7 work-hours × $85 per hour = $595 | $0 | $595 | $59,500

The FAA estimates the following costs to do any necessary installations and reporting that would be required based on the results of the inspection. The FAA has no way of determining the number of aircraft that might need reporting:

On-Condition Cost
Action | Labor cost | Parts cost | Cost per product
Installation | 2 work-hours × $85 per hour = $170 | $0 | $170
Reporting | 1 work-hour × $85 per hour = $85 | 0 | 85

The FAA has received no definitive data on which to base the cost estimates for on-condition corrective actions to address failed operational tests specified in this AD.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-24-02 The Boeing Company: Amendment 39-23197; Docket No. FAA-2025-5025; Project Identifier AD-2025-01595-T.

(a) Effective Date

This airworthiness directive (AD) is effective December 10, 2025.

(b) Affected ADs

None.

(c) Applicability

This AD applies to The Boeing Company Model 737-700, -800, -900, and -900ER series airplanes, certificated in any category, as identified in Boeing Alert Requirements Bulletin 737-32A1599 RB, dated October 14, 2025.

(d) Subject

Air Transport Association (ATA) of America Code 32, Landing gear.

(e) Unsafe Condition

This AD was prompted by a report of a runway excursion caused by loss of braking. An inspection found that the right main landing gear (MLG) hydraulic hoses for the brakes were incorrectly installed (crossed) at the flow limiters, and the left MLG wheel speed transducer wires were also interchanged. The FAA is issuing this AD to address incorrectly installed brake hydraulic hoses for the MLG and wheel speed transducer wires for the MLG, which could cause incorrect antiskid system operation. The unsafe condition could result in loss of braking and a runway excursion with serious or fatal injuries.

(f) Compliance

Comply with this AD within the compliance times specified, unless already done.

(g) Required Actions

Except as specified by paragraph (h) of this AD: At the applicable times specified in the “Compliance” paragraph of Boeing Alert Requirements Bulletin 737-32A1599 RB, dated October 14, 2025, do all applicable actions identified in, and in accordance with, the Accomplishment Instructions of Boeing Alert Requirements Bulletin 737-32A1599 RB, dated October 14, 2025.

Note 1 to paragraph (g):Guidance for accomplishing the actions required by this AD can be found in Boeing Alert Service Bulletin 737-32A1599, dated October 14, 2025, which is referred to in Boeing Alert Requirements Bulletin 737-32A1599 RB, dated October 14, 2025.

(h) Exception to Requirements Bulletin Specifications

Where the “Effectivity” paragraph and Compliance Time columns of the tables in the “Compliance” paragraph of Boeing Alert Requirements Bulletin 737-32A1599 RB, dated October 14, 2025, refer to the original issue date of Requirements Bulletin 737-32A1599 RB, this AD requires using the effective date of this AD.

(i) Reporting

For airplanes identified as Group 1, Configuration 3 through 5, in Boeing Alert Requirements Bulletin 737-32A1599 RB, dated October 14, 2025, on which any of the findings specified in paragraphs (i)(4) through (6) of this AD were found during any inspection or test required by paragraph (g) of this AD: Submit a report within 30 days after the inspection or test, or within 30 days after the effective date of this AD, whichever occurs later. The report must include the items specified in paragraphs (i)(1) through (6) of this AD. Submit the report to Boeing Service Engineering by sending a service request using the Boeing Communication System (BCS).

(1) Airplane line number.

(2) Date of most recent accomplishment of any service bulletin listed in Appendix A of Boeing Alert Requirements Bulletin 737-32A1599 RB, dated October 14, 2025.

(3) The number of flight cycles between the most recent accomplishment of any service bulletin listed in Appendix A of Boeing Alert Requirements Bulletin 737-32A1599 RB, dated October 14, 2025, and the date that the inspection or test was completed.

(4) All crossed brake hydraulic hoses found during the general visual inspection for crossed brake hydraulic hoses.

(5) Operational test failures of the antiskid valve operational tests.

(6) Operational test failures of the transducer operational tests.

(j) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (k)(1) of this AD. Information may be emailed to: AMOC@faa.gov. Before using any approved AMOC, notify your appropriate principal inspector, or lacking a principal inspector, the manager of the responsible Flight Standards Office.

(2) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(k) Additional Information

(1) For more information about this AD, contact Katherine Venegas, Aviation Safety Engineer, FAA, 3960 Paramount Boulevard, Lakewood, CA 90712; phone: 562-627-5353; email: katherine.venegas@faa.gov.

(2) Material identified in this AD that is not incorporated by reference is available at the address specified in paragraph (l)(3) of this AD.

(l) Material Incorporated by Reference

(1) The Director of the Federal Register approved the incorporation by reference of the material listed in this paragraph under 5 U.S.C. 552(a) and 1 CFR part 51.

(2) You must use this material as applicable to do the actions required by this AD, unless the AD specifies otherwise.

(i) Boeing Alert Requirements Bulletin 737-32A1599 RB, dated October 14, 2025.

(ii) [Reserved]

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on November 19, 2025.
Peter A. White,
Deputy Director, Integrated Certificate Management Division, Aircraft Certification Service.

[FR Doc. 2025-20951 Filed 11-21-25; 11:15 am]

BILLING CODE 4910-13-P